Title 3—

The President

Executive Order 14234 of March 7, 2025

Establishing the White House Task Force on the FIFA World Cup 2026

By the authority vested in me as President by the Constitution and the laws of the United States of America, and in anticipation of the FIFA Club World Cup 2025 and the FIFA World Cup 2026, it is hereby ordered:

Section 1. Purpose. The United States is a host nation for the FIFA World Cup 2026, which will be the largest sporting event in history. This important event, taking place during the momentous occasion of the 250th anniversary of our country, presents an opportunity to showcase the Nation's pride and hospitality while promoting economic growth and tourism through sport. My Administration will support preparations through a coordinated Government effort.

Sec. 2. Establishing the White House Task Force on the FIFA World Cup 2026. (a) There is hereby established the White House Task Force on the FIFA World Cup 2026 (Task Force).

(b) The President shall be the Chair of the Task Force, and the Vice President shall serve as Vice Chair.

(c) The Chair shall designate an Executive Director, who shall administer and execute the day-to-day operations of the Task Force, and who shall report to the Chair through the Assistant to the President and Deputy Chief of Staff for Strategic Implementation. The Chair, the Vice Chair, or a member of the Task Force designated by the Chair, shall convene regular meetings of the Task Force, determine its agenda, and direct its work, consistent with this order. The Executive Director and the Assistant to the President and Deputy Chief of Staff for Strategic Implementation shall assist in the performance of these duties. The Chair may designate any member of the Task Force to preside over meetings of the Task Force.

(d) In addition to the Chair and Vice Chair, the Task Force shall consist of the following members:

(i) the Secretary of State;

(ii) the Secretary of the Treasury;

(iii) the Secretary of Defense;

(iv) the Attorney General;

(v) the Secretary of Commerce;

(vi) the Secretary of Transportation;

(vii) the Secretary of Homeland Security;

(viii) the Assistant to the President for National Security Affairs;

(ix) the Assistant to the President and Deputy Chief of Staff;

(x) the Assistant to the President and Deputy Chief of Staff for Policy and Homeland Security Advisor;

(xi) the Assistant to the President and Deputy Chief of Staff for Legislative, Political and Public Affairs;

(xii) the Director of the Federal Bureau of Investigation; and

(xiii) the heads of such other executive departments, agencies, and offices that the Chair or the Vice Chair may, from time to time, designate or invite to participate.

(e) The Task Force shall coordinate with executive departments and agencies (agencies) to assist in the planning, organization, and execution of the events surrounding the 2025 FIFA Club World Cup and the 2026 FIFA World Cup. Agencies shall provide information and assistance useful and necessary to the Task Force.

(f) For administrative purposes, the Task Force shall be housed in the Department of Homeland Security, which shall provide funding and administrative support for the Task Force, to the extent permitted by law and subject to the availability of appropriations.

(g) Agencies within the Task Force shall each provide a report to the Task Force regarding their respective planning and activities with respect to the 2026 FIFA World Cup. These reports shall be submitted to the Executive Director of the Task Force no later than June 1, 2025.

(h) The Task Force shall terminate on December 31, 2026, unless extended by the President.

Sec. 3. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

March 7, 2025.

[FR Doc. 2025-04102

Filed 3-11-25; 11:15 am]

Billing code 3395-F4-P